DEPARTMENT OF THE INTERIOR

Fish and Wildlife Service

Notice of Meeting of the Trinity Adaptive Management Working Group

AGENCY: Fish and Wildlife Service, Interior.

ACTION: Notice of meeting.

SUMMARY: The Trinity Adaptive Management Working Group (TAMWG) affords stakeholders the opportunity to give policy, management, and technical input concerning Trinity River restoration efforts to the Trinity Management Council. Primary objectives of the meeting will include: Trinity River Restoration Program Fiscal Year 2007 budget; science framework; TAMWG Charter renewal; Executive Director's report; reports from Trinity River Restoration Program workgroups; Klamath River conditions and Klamath-Trinity management coordination: restoration experience on Clear Creek; and Central Valley Project Improvement Act (CVPIA) program review. Completion of the agenda is dependent on the amount of time each item takes. The meeting could end early if the agenda has been completed. The meeting is open to the public.

DATES: The Trinity Adaptive Management Working Group will meet from 1 p.m. to 5 p.m. on Tuesday, September 12, 2006, and from 8:30 a.m. to 1 p.m. on Wednesday, September 13, 2006.

ADDRESSES: The meeting will be held at the Weaverville Victorian Inn, 1709 Main St., 299 West, Weaverville, CA 96093; telephone: (530) 623-4432.

FOR FURTHER INFORMATION CONTACT: Randy A. Brown of the U.S. Fish and Wildlife Service, Arcata Fish and Wildlife Office, 1655 Heindon Road, Arcata, California 95521; (707) 822-7201. Randy A. Brown is the working group's Designated Federal Officer.

SUPPLEMENTARY INFORMATION: Under section 10(a)(2) of the Federal Advisory Committee Act (5 U.S.C. App), this notice announces a meeting of the Trinity Adaptive Management Working Group (TAMWG). For background information and questions regarding the Trinity River Restoration Program, please contact Douglas Schleusner, Executive Director, Trinity River Restoration Program, P.O. Box 1300, 1313 South Main Street, Weaverville, California 96093; (530) 623-1800.

Dated: July 20, 2006.
Joseph Polos,
Supervisory Fishery Biologist, Arcata Fish and Wildlife Office, Arcata, CA.

[FR Doc. E6-12308 Filed 7-31-06; 8:45 am]

BILLING CODE 4310-55-P